DEPARTMENT OF HOMELAND SECURITY

Senior Executive Service Performance Review Board; Correction

AGENCY: Office of the Secretary, Department of Homeland Security.

ACTION: Notice; correction.

SUMMARY: The Department of Homeland Security (DHS) published the members of the FY 2018 Senior Executive Service (SES) Performance Review Board (PRB) in the Federal Register on October 9, 2018. This notice correction is adding five additional names to the previously published PRB list.

DATES: This Notice is current as of November 1, 2018.

FOR FURTHER INFORMATION CONTACT: Julie Hart, Office of the Chief Human Capital Officer, Julie.Hart@hq,dhs.gov, or by telephone (202) 357-8123.

SUPPLEMENTARY INFORMATION:

Correction

In the Federal Register of October 9, 2018, in FR Doc. 2018-21887, on page 50674 and page 50675, the following five names have been added to the list that make up the composition of the PRBS:

Hentz, Andre

Lim, Marie Evelyn

Quinn, Cameron

Taylor, Miles

Wolf, Chad

Dated: October 25, 2018.
Greg Ruocco,
Manager, Executive Resources Policy, Office of the Chief Human Capital Officer.

[FR Doc. 2018-23903 Filed 10-31-18; 8:45 am]

BILLING CODE 9110-9B-P